ENVIRONMENTAL PROTECTION AGENCY

[EPA-HQ-OPP-2009-0879; FRL-9363-5]

Exposure Modeling Public Meeting; Notice of Public Meeting

AGENCY: Environmental Protection Agency (EPA).

ACTION: Notice.

SUMMARY: An Exposure Modeling Public Meeting (EMPM) will be held for one day on October 30, 2012. This notice announces the location and time for the meeting and sets forth the tentative agenda topics.

DATES: The meeting will be held on October 30, 2012 from 9 a.m. to 4 p.m. Requests to participate in the meeting must be received on or before October 22, 2012.

To request accommodation of a disability, please contact the person listed under FOR FURTHER INFORMATON CONTACT, preferably at least 10 days prior to the meeting, to give EPA as much time as possible to process your request.

ADDRESSES: The meeting will be held at the Environmental Protection Agency, Office of Pesticide Programs (OPP), One Potomac Yard (South Building), Fourth Floor Conference Center (S-4370-80), 2777 S. Crystal Drive, Arlington, VA 22202.

FOR FURTHER INFORMATION CONTACT: Katrina White, Environmental Fate and Effects Division, Office of Pesticide Programs, Environmental Protection Agency, 1200 Pennsylvania Ave. NW., Washington, DC 20460-0001; telephone number: (703) 308-4536; fax number: (703) 305-6309; email address: white.katrina@epa.gov.

SUPPLEMENTARY INFORMATION:

I. General Information

A. Does this action apply to me?

You may be potentially affected by this action if you are required to conduct testing of chemical substances under the Toxic Substances Control Act (TSCA), the Federal Food, Drug, and Cosmetic Act (FFDCA), or the Federal Insecticide, Fungicide, and Rodenticide Act (FIFRA). Since other entities may also be interested, the Agency has not attempted to describe all the specific entities that may be affected by this action. The following list of North American Industrial Classification System (NAICS) codes is not intended to be exhaustive, but rather provides a guide to help readers determine whether this document applies to them. Potentially affected entities may include:

• Agriculture, forestry, fishing and hunting (NAICS code 11).

• Utilities (NAICS code 22).

• Professional, scientific and technical (NAICS code 54).

B. How can I get copies of this document and other related information?

The docket for this action, identified by docket identification (ID) number EPA-HQ-OPP-2009-0879, is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Background

On a biannual interval, an Exposure Modeling Public Meeting will be held for presentation and discussion of current issues related to modeling pesticide fate, transport, and exposure of risk assessment in a regulatory context. Meeting dates and abstract requests are announced through the “empmlist” forum on the LYRIS list server at https://lists.epa.gov/read/all_forums.

III. How can I request to participate in this meeting?

You may submit a request to participate in this meeting to the person listed under FOR FURTHER INFORMATION CONTACT. Do not submit any information in your request that is considered CBI. Requests to participate in the meeting, identified by docket ID number EPA-HQ-OPP-2009-0879, must be received on or before October 22, 2012.

IV. Tentative Topics for the Meeting

1. Development and evaluation of the Pesticide Root Zone Model (PRZM) for estimating pesticide concentrations in groundwater.

2. Status of Drinking Water intake Watershed PCA development exercise.

3. RQ calculations for specific listed terrestrial mammals, birds, reptiles, and amphibians: Model Parameterization and Knowledge base Development.

4. Standard Operating Procedure for calculating degradation kinetics.

5. Aquatic exposure modeling using field studies.

6. Rice modeling: A case study.

7. Evaluation of a simplified SWAT model approach for prediction of insecticide concentrations in a small watershed in northwestern Oregon.

8. iSTREEM®—a Web-based river chemical concentration estimation model.

9. Development and validation of an approach for modeling pyrethroid insecticides in wastewater treatment processes.

10. Monitoring and modeling the fate and transport of a pesticide metabolite from groundwater recharge to drinking water.

11. Comparison of multiple source ground spray deposition curves for determination of buffers in simulation models.

12. Using groundwater monitoring data to evaluate the Tier 1 use of drinking water exposure models.

List of Subjects

Environmental protection, Buffers, Degradation kinetics, Drinking water, Exposure assessment, Groundwater, Pesticide exposure model, PRZM, Pyrethroids, Rice model, SWAT, Watershed PCA.

Dated: September 25, 2012.
Donald J. Brady,
Director, Environmental Fate and Effects Division, Office of Pesticide Programs.

[FR Doc. 2012-24893 Filed 10-9-12; 8:45 am]

BILLING CODE 6560-50-P